FEDERAL RETIREMENT THRIFT INVESTMENT BOARD

Employee Thrift Advisory Council; Open Meeting

In accordance with section 10(a)(2) of the Federal Advisory Committee Act (Pub. L. 92-463), a notice is hereby given of the following committee meeting:

Name: Employee Thrift Advisory Council.

Time: 10:30 a.m.

Date: May 4, 2005.

Place: 4th Floor, Conference Room, Federal Retirement Thrift Investment Board, 1250 H Street, NW., Washington, DC.

Status: Open.

Matters To Be Considered:

1. Approve minutes of the November 9, 2004, meeting.

2. Report of the Executive Director on Thrift Savings Plan status.

3. Open Season elimination.

4. “Life” funds.

5. Legislation.

6. New Business.

7. Frequency of meetings.

For Further Information Contact: Elizabeth S. Woodruff, Committee Management Officer, on (202) 942-1660.

Dated: April 8, 2005.
Elizabeth S. Woodruff,
General Counsel, Federal Retirement Thrift Investment Board.

[FR Doc. 05-7525 Filed 4-11-05; 2:07 pm]

BILLING CODE 6760-01-M